DEPARTMENT OF ENERGY

Federal Energy Regulatory Commission

[Docket No. CP00-72-000]

ANR Pipeline Company; Notice of Application

February 2, 2000.

Take notice that on January 27, 2000, ANR Pipeline Company (ANR), 500 Renaissance Center, Detroit, Michigan 48243, filed in Docket No. CP00-72-000 an application pursuant to Section 7(b) of the Natural Gas Act for permission and approval to abandon natural gas transportation service provided to Texas Gas Transmission Corporation (Texas Gas) under an individually certificated agreement, all as more fully set forth in the application which is on file with the Commission and open to public inspection. This filing may be viewed on the web at http://www.ferc.fed.us/online/rims.htm (call 202-208-2222 for assistance).

ANR proposes to abandon a firm natural gas transportation service provided to Texas Gas under ANR's Rate Schedule X-153 contained in its respective FERC Gas Tariff, Original Volume No. 2. ANR states that the service agreement provided for an initial term of fifteen years from the date of first deliveries and from year to year thereafter, unless canceled by either party. ANR asserts that transportation of the gas commenced on February 7, 1985. ANR states that Texas Gas has requested that the parties terminate the transportation service effective February 27, 2000 and requests that authority to abandon the transportation service provided under Rate Schedule X-153 be made effective as of that date. ANR declares that it does not propose to abandon any facilities pursuant to the instant application.

Any person desiring to be heard or to make any protest with reference to said Application should on or before February 23, 2000, file with the Federal Energy Regulatory Commission, 888 First Street, NE., Washington, DC 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

David P. Boergers,
Secretary.

[FR Doc. 00-2781 Filed 2-7-00; 8:45 am]

BILLING CODE 6717-01-M